INTERNATIONAL TRADE COMMISSION

[Investigation No. 337-TA-1229]

Certain Furniture Products Finished With Decorative Wood Grain Paper and Components Thereof; Commission Determination To Affirm an Initial Determination Terminating the Investigation as to Respondent Walker Edison Co., LLC Based on a Consent Order; Issuance of a Consent Order; Termination of Investigation

AGENCY: U.S. International Trade Commission.

ACTION: Notice.

SUMMARY: Notice is hereby given that the U.S. International Trade Commission has determined to affirm an initial determination (“ID”) (Order No. 8) issued by the presiding administrative law judge (“ALJ”) terminating the investigation as to respondent Walker Edison Co., LLC (“Walker Edison”) based on a consent order and to issue a consent order. The investigation is terminated.

FOR FURTHER INFORMATION CONTACT: Benjamin S. Richards, Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on November 9, 2020, based on a complaint, as supplemented, filed by Toppan Interamerica, Inc. of McDonough, Georgia (“Complainant”). 85 FR 71355 (Nov. 9, 2020). The complaint alleges violations of section 337 of the Tariff Act of 1930, as amended, 19 U.S.C. 1337, in the importation into the United States, the sale for importation, and the sale within the United States after importation of certain furniture products finished with decorative wood grain paper and components thereof by reason of infringement of U.S. Copyright Registration No. VA 2-142-287. The complaint further alleges that an industry in the United States exists. Id. at 713356. The Commission's notice of investigation named Walker Edison as the sole respondent. Id.

On January 21, 2021, Complainant and Walker Edison jointly moved to terminate the investigation as to Walker Edison based on the entry of a consent order. The joint motion included a consent order stipulation executed by Walker Edison and a proposed consent order. On January 27, 2021, the presiding ALJ issued the subject ID granting the motion. No petitions for review of the ID were received.

On February 19, 2021, the Commission determined to review the ID in light of apparent deficiencies in Walker Edison's consent order stipulation and in the proposed consent order submitted by the parties. In the notice of review, the Commission sought responses from the parties regarding whether either would object to correction of the deficiencies in the proposed consent order and whether Walker Edison would stipulate to the addition of a term to the proposed consent order. On February 22, 2021, both parties filed responses indicating that they did not object to correction of the deficiencies in the proposed consent order, and Walker Edison stipulated to the inclusion of the additional term in any consent order the Commission may issue.

In light of the parties' responses, the Commission has determined to affirm the ID and issue a consent order. Walker Edison is hereby terminated from the investigation, which is also terminated in its entirety.

The Commission vote for this determination took place on March 15, 2021.

The authority for the Commission's determination is contained in section 337 of the Tariff Act of 1930, as amended (19 U.S.C. 1337), and in part 210 of the Commission's Rules of Practice and Procedure (19 CFR part 210).

By order of the Commission.
Issued: March 15, 2021.
Lisa Barton,
Secretary to the Commission.

[FR Doc. 2021-05641 Filed 3-17-21; 8:45 am]

BILLING CODE 7020-02-P